DEPARTMENT OF TRANSPORTATION

Office of the Secretary

Notice of Applications for Certificates of Public Convenience and Necessity and Foreign Air Carrier Permits Filed Under Subpart B (formerly Subpart Q) During the Week Ending January 18, 2008

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2008-0026.

Date Filed: January 16, 2008.

Due Date for Answers, Conforming Applications, or Motion to Modify Scope: February 11, 2008.

Description: Application of Air Italy S.p.A. requesting a foreign air carrier permit authorizing (i) the carriage of international charter air traffic of passengers and their accompanying baggage and/or cargo between any point or points in the Republic of Italy and any point or points in the territory of the United States; and between any point or points in the United States and any point or points in any third country or countries; and (ii) such other charter trips in foreign air transportation.

Docket Number: DOT-OST-2007-28129 and DOT-OST-2008-0022.

Date Filed: January 14, 2008.

Due Date for Answers, Conforming Applications, or Motion to Modify Scope: February 4, 2008.

Description: Application of Oy Air Finland, Ltd. requesting an amended foreign air carrier permit and an exemption to engage in: (a) Foreign charter air transportation of persons, property and mail from any point or points behind any Member State of the European Community via any point or points in any Member State and via intermediate points to any point or points in the United States and beyond; (b) foreign charter air transportation of persons, property, and mail between any point or points in the United States and any point or points in any Member State of the European Common Aviation Area; (c) foreign charter cargo air transportation between any point or points in the United States and any other point or points; (d) other passenger charters pursuant to the prior approval requirements set forth in Part 212 of the Department's economic regulations; and (e) charter transportation authorities consistent with any future, additional rights that may be granted to foreign air carriers of the Member States of the European Community.

Renee V. Wright,
Program Manager, Docket Operations, Federal Register Liaison.

[FR Doc. E8-12788 Filed 6-5-08; 8:45 am]

BILLING CODE 4910-9X-P